DEPARTMENT OF ENERGY

Federal Energy Regulatory Commission

[Project No. 13102-003]

Birch Power Company; Notice of Technical Meeting

a. Date and Time of Meeting: January 23, 2017 at 2:00 p.m. Eastern Standard Time (1:00 p.m. Central Standard Time).

b. Place: Telephone conference.

c. FERC Contact: Adam Peer at adam.peer@ferc.gov, or (202) 502-8449.

d. Purpose of Meeting: Commission Staff is hosting a technical meeting to discuss the details of Birch Power's proposed Spoils Disposal Plan filed on May 21, 2014.

e. A summary of the meeting will be prepared and filed in the Commission's public file for the project.

f. All local, state, and federal agencies, Indian tribes, and other interested parties are invited to participate by phone. Please call Adam Peer at (202) 502-8449 by January 17, 2017, to RSVP and to receive specific instructions on how to participate.

Dated: January 6, 2017.
Kimberly D. Bose,
Secretary.

[FR Doc. 2017-00562 Filed 1-11-17; 8:45 am]

BILLING CODE 6717-01-P